DEPARTMENT OF TRANSPORTATION

Federal Motor Carrier Safety Administration

[Docket No. FMCSA-2006-25756]

Commercial Driver's License (CDL) Standards: Granting of Exemption; Volvo Trucks North America (Volvo)

AGENCY: Federal Motor Carrier Safety Administration (FMCSA), DOT.

ACTION: Notice of final disposition; granting of application for exemption.

SUMMARY: FMCSA announces its decision to grant Volvo Trucks North America, Inc.'s (Volvo) application for an exemption for one of its drivers to enable him to test-drive commercial motor vehicles (CMVs) in the United States without a commercial driver's license (CDL) issued by one of the States. Volvo stated the exemption is needed to support a field test to meet future air quality standards and to test-drive Volvo prototype vehicles to verify results in “real world” environments. Its driver holds a valid CDL issued in Sweden but lacks the U.S. residency necessary to obtain a CDL issued by one of the States. FMCSA believes the knowledge and skills testing and training program that drivers must undergo to obtain a Swedish CDL ensures that their drivers will achieve a level of safety that is equivalent to, or greater than, the level of safety achieved without the exemption.

DATES: This exemption is effective February 26, 2009 and expires February 26, 2011.

FOR FURTHER INFORMATION CONTACT: Mr. Richard Clemente, Driver and Carrier Operations Division, Office of Bus and Truck Standards and Operations, MC-PSD, Federal Motor Carrier Safety Administration, 1200 New Jersey Avenue, SE., Washington, DC 20590. Telephone: 202-366-4325. E-mail: MCPSD@dot.gov.

SUPPLEMENTARY INFORMATION:

Background

Under 49 U.S.C. 31315 and 31136(e), FMCSA may grant an exemption from the CDL requirements in 49 CFR 383.23 for a 2-year period if it finds “* * * such exemption would likely achieve a level of safety that is equivalent to, or greater than, the level that would be achieved absent such exemption * * *” (49 CFR 381.305 (a)). FMCSA has evaluated Volvo's application on its merits and decided to grant the exemption for its field test engineer, Michael Tellstrom, for a 2-year period.

Volvo Application for an Exemption

Volvo applied for an exemption from the 49 CFR 383.23 requirement that the operator of a CMV obtain a CDL issued by one of the States. This section of the Federal Motor Carrier Safety Regulations (FMCSRs) sets forth the standards that States must employ in issuing CDLs. An individual must be a resident of a State in order to qualify for a CDL. The Volvo driver-employee for whom this exemption is sought is a citizen and resident of Sweden; therefore, he cannot apply for a CDL in any State of the United States. A copy of the request for exemption from section 383.23 is in the docket identified at the beginning of this notice.

Swedish Driver

This exemption enables Michael Tellstrom to test-drive in the U.S. Volvo CMVs that are assembled, sold or primarily used in the U.S. Volvo currently employs this driver in Sweden, and wants him to be able to test-drive Volvo prototype vehicles at its test site and in the vicinity of Phoenix, Arizona, to verify vehicle results in “real world” environments. He is a highly trained, experienced CMV operator with a valid Swedish-issued CDL. Because he was required to satisfy strict CDL testing standards in Sweden to obtain a CDL and has extensive training and experience operating CMVs, Volvo believes that the exemption will maintain a level of safety equivalent to the level of safety that would be obtained absent the exemption.

Method To Ensure an Equivalent or Greater Level of Safety

According to Volvo, drivers applying for a Swedish-issued CDL must undergo a training program and pass knowledge and skills tests. Volvo believes the knowledge and skills tests and training program that these drivers undergo to obtain a Swedish CDL ensure the exemption would provide a level of safety that is equivalent to, or greater than, the level of safety obtained by complying with the U.S. requirement for a CDL. In addition, Volvo has submitted a copy of the violation-free Swedish driving record of this driver.

FMCSA had previously determined that the process for obtaining a Swedish-issued CDL adequately assesses the driver's ability to operate CMVs in the U.S. Therefore, the process for obtaining a Swedish-issued CDL is considered to be comparable to, or as effective as, the requirements of 49 CFR part 383.

Comments

The Agency received no response to its request for public comments published in the Federal Register on January 16, 2009 (74 FR 3130).

Terms and Conditions for the Exemption

Based upon evaluation of the application for an exemption, FMCSA grants Volvo an exemption from the CDL requirement in 49 CFR 383.23 for its driver, Michael Tellstrom, to test-drive CMVs within the United States, subject to the following terms and conditions: (1) That this driver will be subject to drug and alcohol regulations, including testing, as provided in 49 CFR part 382, (2) that this driver is subject to the same driver disqualification rules under 49 CFR parts 383 and 391 that apply to other CMV drivers in the U.S., (3) that this driver keep a copy of the exemption on the vehicle at all times, (4) that Volvo notify FMCSA in writing of any accident, as defined in 49 CFR 390.5, involving this driver, and (5) that Volvo notify FMCSA in writing if this driver is convicted of a disqualifying offense described in section 383.51 or 391.15 of the FMCSRs.

In accordance with 49 U.S.C. 31315 and 31136(e), the exemption will be valid for 2 years unless revoked earlier by the FMCSA. The exemption will be revoked if: (1) The driver for Volvo fails to comply with the terms and conditions of the exemption, (2) the exemption has resulted in a lower level of safety than was maintained before it was granted, or (3) continuation of the exemption would not be consistent with the goals and objectives of 49 U.S.C. 31315 and 31136.

Issued on: February 19, 2009.
Larry W. Minor,
Associate Administrator for Policy and Program Development.

[FR Doc. E9-4148 Filed 2-25-09; 8:45 am]

BILLING CODE 4910-EX-P